SECURITIES AND EXCHANGE COMMISSION

[Release No. 34-60298; File No. SR-FICC-2008-07]

Self-Regulatory Organizations; Fixed Income Clearing Corporation; Notice of Filing and Immediate Effectiveness of Proposed Rule Change Relating to Fee Schedules

July 13, 2009.

Pursuant to Section 19(b)(1) of the Securities Exchange Act of 1934 (“Act”),¹ notice is hereby given that on December 31, 2009, the Fixed Income Clearing Corporation (“FICC”) filed with the Securities and Exchange Commission (“Commission”) and on January 12, 2009, May 11, 2009, and June 24, 2009, amended the proposed rule change as described in Items I, II, and III below, which Items have been prepared primarily by FICC. FICC filed the proposed rule change pursuant to Section 19(b)(3)(A)(ii) of the Act ² and Rule 19b-4(f)(2) thereunder ³ so that the proposal was effective upon filing with the Commission. The Commission is publishing this notice to solicit comments on the proposed rule change from interested persons.

¹ 15 U.S.C. 78s(b)(1).

² 15 U.S.C. 78s(b)(3)(A)(ii).

³ 17 CFR 240.19b-4(f)(2).

I. Self-Regulatory Organization's Statement of the Terms of Substance of the Proposed Rule Change

The proposed rule change will amend FICC's Government Securities Division's (“GSD”) and Mortgage Backed Securities Division's (“MBSD's”) fees.

II. Self-Regulatory Organization's Statement of the Purpose of, and Statutory Basis for, the Proposed Rule Change

In its filing with the Commission, FICC included statements concerning the purpose of and basis for the proposed rule change and discussed any comments it received on the proposed rule change. The text of these statements may be examined at the places specified in Item IV below. FICC has prepared summaries, set forth in sections A, B, and C below, of the most significant aspects of such statements.

A. Self-Regulatory Organization's Statement of the Purpose of, and Statutory Basis for, the Proposed Rule Change

The purpose of this filing is to amend GSD's and MBSD's fees.

1. GSD Trade Submission

The GSD fee structure currently charges $.30 per submission of a side of a trade or submission of a Repo Transaction. FICC is modifying this fee by reducing this charge according to the following volume-based fee structure:

(a) $.16 per submission for up to 50,000 submissions per month.

(b) $.08 per submission for 50,001 to 100,000 submissions per month.

(c) $.01 per submission for 100,001 or greater submissions per month.

2. GSD Netting Fee

The GSD fee structure currently provides that the charge for each Deliver Obligation and Receive Obligation created as a result of the netting process is a fee of $0.052 per $1 million of par value. This fee is being increased to $0.06 per $1 million.

3. GSD Demand and Locked-In Trade Data

Data received by FICC on a demand or locked-in basis from a Demand Trade Source or a Locked-in Trade Source related to a side of a trade or Repo Transaction entered into by a member or entered into by a non-member for which the member is clearing results in a charge for processing and reporting by FICC to the member of $0.50 per $50 million increment of such side or Repo Transaction. This fee is being reduced to $0.16 per $50 million increment of such side or Repo Transaction.

4. MBSD Trade Processing

FICC is reducing the MBSD Trade Processing fees for trade creates as follows:

Items | From | To
01-2,500 | $1.58/MM | $1.44/MM
2,501-5,000 | 1.46/MM | 1.32/MM
5,001-7,500 | 1.33/MM | 1.19/MM
7,501-10,000 | 1.25/MM | 1.11/MM
10,001-12,500 | 1.12/MM | 0.98/MM
12,501 and over | 0.99/MM | 0.85/MM

FICC believes that the proposed rule change is consistent with the requirements of Section 17A of the Act ⁴ and the rules and regulations thereunder because it updates FICC's fee schedule and provides for the equitable allocation of fees among its participants.

⁴ 15 U.S.C. 78q-1.

B. Self-Regulatory Organization's Statement on Burden on Competition

FICC does not believe that the proposed rule change will have any impact or impose any burden on competition.

C. Self-Regulatory Organization's Statement on Comments on the Proposed Rule Change Received From Members, Participants, or Others

Written comments relating to the proposed rule change have not yet been solicited or received. FICC will notify the Commission of any written comments received by FICC.

III. Date of Effectiveness of the Proposed Rule Change and Timing for Commission Action

The foregoing rule change has become effective pursuant to Section 19(b)(3)(A)(ii) of the Act ⁵ and Rule 19b-4(f)(2) ⁶ thereunder because it establishes or changes a due, fee, or other charge applicable only to a member. At any time within 60 days of the filing of the proposed rule change, the Commission may summarily abrogate such rule change if it appears to the Commission that such action is necessary or appropriate in the public interest, for the protection of investors, or otherwise in furtherance of the purposes of the Act.

⁵ 15 U.S.C. 78s(b)(3)(A)(ii).

⁶ 17 CFR 240.19b-4(f)(2).

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml) or

• Send an e-mail to rule-comment@sec.gov. Please include File No. SR-FICC-2008-07 on the subject line.

Paper Comments

• Send paper comments in triplicate to Elizabeth M. Murphy, Secretary, Securities and Exchange Commission, 100 F Street, NE., Washington, DC 20549-1090.

All submissions should refer to File No. SR-FICC-2008-07. This file number should be included on the subject line if e-mail is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room, 100 F Street, NE., Washington, DC 20549, on official business days between the hours of 10 a.m. to 3 p.m. Copies of such filing also will be available for inspection and copying at FICC's principal office and on FICC's Web site at http://ficc.com/gov/gov.docs.jsp?NS-query=#rf. All comments received will be posted without change; the Commission does not edit personal identifying information from submissions. You should submit only information that you wish to make available publicly. All submissions should refer to SR-FICC-2008-07 and should be submitted on or before August 10, 2009.

For the Commission by the Division of Trading and Markets, pursuant to delegated authority.⁷
Florence E. Harmon,
Deputy Secretary.

⁷ 17 CFR 200.30-3(a)(12).

[FR Doc. E9-17137 Filed 7-17-09; 8:45 am]

BILLING CODE 8010-01-P